DEPARTMENT OF LABOR

Office of the Secretary

All Items Consumer Price Index for All Urban Consumers; United States City Average

Pursuant to Section 112 of the 1976 amendments to the Federal Election Campaign Act (Pub L. 94-283, 2 U.S.C. 441a (c)(2)(B)(i) and (ii)), the Secretary of Labor has certified to the Chairman of the Federal Election Commission and publishes this notice in the Federal Register that the United States City Average All Items Consumer Price Index for All Urban Consumers (1967 = 100) increased 356.2 percent from its 1974 annual average of 147.7 to its 2011 annual average of 673.818 and that it increased 27.0 percent from its 2001 annual average of 530.4 to its 2011 annual average of 673.818. Using 1974 as a base (1974 = 100), I certify that the United States City Average All Items Consumer Price Index for All Urban Consumers thus increased 356.2 percent from its 1974 annual average of 100 to its 2011 annual average of 456.207. Using 2001 as a base (2001 = 100), I certify that the United States City Average All Items Consumer Price Index for All Urban Consumers increased 27.0 percent from its 2001 annual average of 100 to its 2011 annual average of 127.040. Using 2006 as a base (2006 = 100), the CPI increased 11.6 percent from its 2006 annual average of 100 to its 2011 annual average of 111.578.

Signed at Washington, DC, on the 12th day of April 2012.
Hilda L. Solis,
Secretary of Labor.

[FR Doc. 2012-9360 Filed 4-17-12; 8:45 am]

BILLING CODE 4510-24-P